DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Dam Owner Survey to Support Management of Gulf of Maine Distinct Population Segment of Atlantic Salmon.

OMB Control Number: None.

Form Number(s): NA.

Type of Request: Regular submission (request for approval of a new information collection).

Number of Respondents: 109 per year.

Average Hours per Response: 10 minutes for owners of two or fewer dams; 1 hour for those owning three or more dams.

Burden Hours: 23 per year.

Needs and Uses: This is a request for approval of a new information collection.

In 2009, Atlantic salmon populations from the Androscoggin River in South Central Maine to the Dennys River in Eastern Maine were listed as Endangered under the Federal Endangered Species Act (ESA) (74 FR 29344, June 19, 2009). Dams were identified in the listing as a significant threat to the species survival and recovery. In order for recovery to occur, Atlantic salmon must have access to sufficient adult spawning habitat and juvenile rearing habitat to support the continued existence of a recovered salmon population. In furtherance of recovery, the National Marine Fisheries Service (NMFS) proposes to conduct a survey of dam owners.

This survey will identify opportunities for fish passage improvements or dam removal that may fit into existing funding programs directed towards improving fish passage for diadromous fish species. Information from this survey will also be collected to educate NOAA on the current use, anticipated use, and community interest in small dams. This type of information will aid NMFS in developing tools to communicate and work effectively with dam owners within the Gulf of Maine Distinct Population Segment. Information will be collected on current uses of dams, anticipated uses of dams, important issues or concerns to dam owners, and owners' interest in creating fish passage or removing dams. Associations or organizations with an interest in the dams will also be identified.

Affected Public: Business or other for-profit organizations.

Frequency: Annually (one time only, but spread over two years).

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: March 9, 2011.
Gwellnar Banks,
Management Analyst, Office of the Chief Information Officer.

[FR Doc. 2011-5793 Filed 3-11-11; 8:45 am]

BILLING CODE 3510-22-P